DEPARTMENT OF COMMERCE

International Trade Administration

[A-588-054]

Tapered Roller Bearings, Four Inches or Less in Outside Diameter, and Components Thereof, From Japan: Final Court Decisions and Amended Final Results of Antidumping Duty Administrative Review

AGENCY: Import Administration, International Trade Administration, Department of Commerce.

ACTION: Notice of Final Court Decisions and Amended Final Results of Antidumping Duty Administrative Review.

SUMMARY: On March 13, 1997, the Department of Commerce (the Department) published the final results of its administrative reviews of the antidumping duty order on tapered roller bearings (TRBs) and parts thereof, finished and unfinished, from Japan (A-588-604), and the antidumping finding on TRBs, four inches or less in outside diameter, and components thereof, from Japan (A-588-054) for the period October 1, 1994 through September 30, 1995. See Tapered Roller Bearings and Parts Thereof, Finished and Unfinished, From Japan and Tapered Roller Bearings, Four Inches or Less in Outside Diameter, and Components Thereof, From Japan; Final Results of Antidumping Duty Administrative Reviews and Termination in Part, 62 FR 11825 (March 13, 1997) (1994-95 TRBs from Japan). Subsequent to our publication of these final results, one party to the proceedings challenged certain aspects of our final results before the United States Court of International Trade (CIT).The CIT has affirmed the final remand results with respect to the 1994-95 final results. As there are now final and conclusive court decisions with respect to the litigation pertaining to this proceeding, we are hereby amending our final results of review and will subsequently instruct Customs to liquidate entries subject to these reviews.

DATES: May 6, 2002.

FOR FURTHER INFORMATION CONTACT: Deborah Scott or Robert James, AD/CVD Enforcement, Group III, Import Administration, International Trade Administration, U.S. Department of Commerce, 14th Street and Constitution Avenue, NW, Washington, DC 20230; telephone: (202) 482-2657 or (202) 482-0649, respectively.

SUPPLEMENTARY INFORMATION:

Background

Below is a summary of the litigation for the 1994-95 final results for which the CIT has now issued a final and conclusive decision.

On March 13, 1997, we published in the Federal Register our notice of the final results of administrative reviews for the 1994-95 period of review (POR) (see 1994-95 TRBs from Japan). Subsequent to the publication of these final results, the petitioner, The Timken Co. (Timken), challenged various aspects of our final results before the CIT (Court No. 97-04-00562). The CIT remanded the case with respect to TRBs manufactured by Koyo Seiko Co., Ltd. (Koyo) and ordered the Department to: 1) determine the extent to which Koyo reported any positive values for inside diameters for cups and outside diameters for cones in its sales of U.S. cups and cones and to correct the computer program by setting the value of any positive inside cup diameters or outside cone diameters to zero in Koyo's U.S. summary sales database; and 2) ensure that no models were matched to constructed value (CV) when a comparison to similar home-market products was appropriate in accordance with Cemex, S.A. v. United States, 113 F.3d 897 (Fed. Cir. 1998). See Timken v. U.S., Slip Op. 98-92 (July 2, 1998). No party appealed the CIT's decision.

As there is now a final and conclusive court decision with respect to this litigation (see Timken v. U.S., Slip Op. 99-9 (January 22, 1999)), we are amending our final results of review for Koyo based on our recalculation of Koyo's rates pursuant to the remand. The amended final results margin for Koyo is 21.49 percent for the 1994-95 administrative review of the antidumping finding on TRBs from Japan. We will issue instructions to Customs to liquidate entries of subject merchandise made by Koyo during this period pursuant to these amended final results.

Amendment To Final Determinations

Pursuant to 19 U.S.C. 1516(f), we are now amending the final results of the 1994-95 administrative review of the antidumping finding on TRBs from Japan manufactured by Koyo. The amended weighted-average margin for Koyo in the antidumping finding on TRBs from Japan (A-588-054) for the period October 1, 1994 through September 30, 1995 is 21.49 percent.

Accordingly, the Department will determine and Customs will assess appropriate antidumping duties on entries of the subject merchandise made by firms covered by the review of the period listed above. The Department will issue appraisement instructions directly to Customs.

Dated: April 29, 2002.
Faryar Shirzad,
Assistant Secretary for Import Administration.

[FR Doc. 02-11181 Filed 5-3-02; 8:45 am]

BILLING CODE 3510-DS-S